DEPARTMENT OF TRANSPORTATION

Federal Aviation Administration

Advisory Circular 33.87-1, Calibration Test, Endurance Test, and Teardown Inspection for Turbine Engine Certification (§§ 33.85, 33.87, 33.93)

AGENCY: Federal Aviation Administration (FAA), DOT.

ACTION: Notice of issuance of advisory circular.

SUMMARY: This notice announces the issuance of Advisory Circular 9AC) 33.87-1, Calibration Test, Endurance Test, and Teardown Inspection for Turbine Engine Certification. This AC sets forth acceptable methods of compliance for aircraft engines with the provisions of §§ 33.85, 33.87, and 33.93 of Title 14 of the Code of Federal Regulations. This AC provides guidance for part 33 type certification endurance testing of all classes of turbine engines.

DATES: The Engine and Propeller Directorate issued Advisory Circular 33.87-1 on April 13, 2006.

FOR FURTHER INFORMATION CONTACT: The Federal Aviation Administration, Attn: Robert McCabe, Engine and Propeller Standards Staff, Rulemaking and Policy Branch, ANE-111, 12 New England Executive Park, Burlington, MA 01803-5299; telephone: (781) 238-7138; fax (781) 238-7199; e-mail: robert.mccabe@faa.gov.

We have filed in the docket all substantive comments received, and a report summarizing them. If you wish to review the docket in person, you may go to the above address between 9 a.m. and 5 p.m., Monday through Friday, except Federal holidays. If you wish to contact the above individual directly, you can use the above telephone number or e-mail address provided.

How to Obtain Copies: A paper copy of AC 33.87-1 may be obtained by writing to the U.S. Department of Transportation, Subsequent Distribution Office, DOT Warehouse, SVC-121.23, Ardmore East Business Center, 3341 Q 75th Ave., Landover, MD 20785, telephone 301-322-5377, or by faxing your request to the warehouse at 301-386-5394. The AC will also be available on the Internet at http://www.faa.gov.

Authority: 49 U.S.C. 106(g), 40113, 44701-44702, 44704)

Issued in Burlington, Massachusetts on April 13, 2006.
Francis A. Favara,
Manager, Engine and Propeller Directorate, Aircraft Certification Service.

[FR Doc. 06-4526 Filed 5-12-06; 8:45 am]

BILLING CODE 4910-13-M